INTERNATIONAL TRADE COMMISSION

[Investigation Nos. 701-TA-442-443 and 731-TA-1095-1097 (Final)]

Certain Lined Paper School Supplies From China, India, and Indonesia

AGENCY: United States International Trade Commission.

ACTION: Revised schedule for the subject investigations.

DATES: Effective Date: May 22, 2006.

FOR FURTHER INFORMATION CONTACT: Jai Motwane (202-205-3176), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: On March 27, 2006, the Commission established a schedule for the conduct of the final phase of the subject investigations (71 FR 17914, April 7, 2006). Subsequently, the Department of Commerce extended the date for its final determinations with respect to Indonesia from June 5, 2006 to August 9, 2006 (71 FR 26925, May 9, 2006). The Commission, therefore, is revising its schedule to conform with Commerce's new schedule.

The Commission's new schedule for the investigations is as follows: Requests to appear at the hearing must be filed with the Secretary to the Commission not later than July 14, 2006; the prehearing conference, if necessary, will be held at the U.S. International Trade Commission Building at 9:30 a.m. on July 18, 2006; the prehearing staff report will be placed in the nonpublic record on June 27, 2006; the deadline for filing prehearing briefs is July 12, 2006; the hearing will be held at the U.S. International Trade Commission Building at 9:30 a.m. on July 25, 2006; the deadline for filing posthearing briefs is August 2, 2006; the Commission will make its final release of information on August 25, 2006; and final party comments are due on August 29, 2006.¹

¹ Parties will be permitted to submit additional comments of no more than five double-spaced pages on August 31, 2006 pertaining only to the results of Commerce's final less-than-fair-value determination with respect to China.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: May 23, 2006.
Marilyn R. Abbott,
Secretary to the Commission.

[FR Doc. E6-8194 Filed 5-26-06; 8:45 am]

BILLING CODE 7020-02-P